DEPARTMENT OF COMMERCE

International Trade Administration

[A-823-805]

Preliminary Results of Full Sunset Review: Silicomanganese From Ukraine

AGENCY: Import Administration, International Trade Administration, U.S. Department of Commerce.

ACTION: Notice of preliminary results of full sunset review: silicomanganese from Ukraine.

SUMMARY: On November 2, 1999, the Department of Commerce (“the Department”) initiated a sunset review of the suspended antidumping investigation on silicomanganese from Ukraine pursuant to section 751(c) of the Tariff Act of 1930, as amended (“the Act”). On the basis of a notice of intent to participate filed on behalf of the domestic parties and adequate substantive comments filed on behalf of both domestic and respondent interested parties, the Department is conducting a full sunset review. As a result of this review, the Department preliminarily finds that termination of the suspended antidumping investigation would be likely to lead to continuation or recurrence of dumping at the levels indicated in the Preliminary Results of Review section of this notice.

EFFECTIVE DATE: May 30, 2000.

FOR FURTHER INFORMATION CONTACT: Martha Douthit, Office of Policy for Import Administration, International Trade Administration, U.S. Department of Commerce, 14th St. & Constitution Ave., NW, Washington, D.C. 20230; telephone (202) 482-5050.

SUPPLEMENTARY INFORMATION:

Statute and Regulations

Unless otherwise indicated, all citations to the Act, are references to the provisions effective January 1, 1995, the effective date of the amendments made to the Act by the Uruguay Round Agreements Act (“URAA”). In addition, unless otherwise indicated, all citations to the Department of Commerce's (“the Department's”) regulations are to 19 CFR Part 351 (1999). Guidance on methodological or analytical issues relevant to the Department's conduct of sunset reviews is set forth in the Department's Policy Bulletin 98:3—Policies Regarding the Conduct of Five-year (“Sunset”) Reviews of Antidumping and Countervailing Duty Orders; Policy Bulletin, 63 FR 18871 (April 16, 1998) (“Sunset Policy Bulletin”).

Background

On November 2, 1999, the Department initiated a sunset review of the suspended antidumping investigation on silicomanganese from Ukraine (64 FR 59160), pursuant to section 751(c) of the Act. On November 17, 1999 we received a Notice of Intent to Participate on behalf of Eramet Marietta Inc. (“Eramet”), within the deadline specified in 19 CFR 351.218(d)(1)(i). Eramet claimed interested party status under section 771(9)(C) of the Act, as a domestic producer of silicomanganese.¹

¹ Eramet asserts that on June 30, 1999, Elkem Metals Company (“Elkem”), the original petitioner, sold its silicomanganese operations to Eramet SA. As a result, Eramet, a subsidiary of Eramet SA, now owns these operations.

We received a complete substantive response to the notice of initiation on December 2, 1999, on behalf of Eramet, within the 30-day deadline specified in the Sunset Regulations under 19 CFR 351.218(d)(3)(i). In its substantive response, Eramet indicated that Elkem, now Eramet, was the petitioner in the original investigation and actively participated in the suspended antidumping investigation. We received a substantive response to the notice of initiation on December 13, 1999, on behalf of Ronly Holdings LTD. (“Ronly”), Nikopol Ferroalloys Plant (“Nikopol”), Zaporozhye Ferroalloys Plant (“Zaporozhye”), and the Ministry of Industrial Policy of the Government of Ukraine (“GOU”) (collectively the “respondent interested parties”).² Ronly, Zaporozhye, and Nikopol claimed interested party statues within the meaning of 771(9)(A) of the Act as foreign manufacturers and/or exporters of silicomanganese from Ukraine. Zaporozhye and Nikopol assert that they participated in the original antidumping investigation that led to the suspension agreement. On December 20, 1999, we received rebuttal comments from Eramet.³

² On December 2, 1999, the Department received a request for an extension of the deadline for filing a substantive response from the respondent interested parties. On December 7, 1999, the Department granted the respondent interested parties an extension, and required them to file both their substantive response and rebuttal comments by December 13, 1999. See December 7, 1999, letter from Jeffrey A. May, Director of Office of Policy, to Kieran Sharpe, of Aitken, Irvin, Lewin, Berlin, Vrooman, & Cohn, LLP.

³ Because the respondent interested parties filed a joint substantive response and rebuttal comments on December 13, 1999, supra, the Department granted Eramet an extended deadline for filing rebuttal comments until December 20, 1999.

In accordance with section 751(c)(5)(C)(v) of the Act, the Department may treat a review as extraordinarily complicated if it is a review of a transition order (i.e., an order in effect on January 1, 1995). The review at issue concerns a transition order within the meaning of section 751(c)(6)(C)(ii) of the Act. Therefore, the Department determined that the sunset review of the suspension agreement on silicomanganese from Ukraine is extraordinarily complicated and extended the time limit for completion of the preliminary results of this review until not later than May 22, 2000, in accordance with section 751(c)(5)(B) of the Act.

Scope

The merchandise covered by this sunset review is silicomanganese. Silicomanganese, which is sometimes called ferrosilicon manganese, is a ferroalloy composed principally of manganese, silicon, and iron, and normally containing much smaller proportions of minor elements, such as carbon, phosphorous, and sulfur. Silicomanganese generally contains by weight not less than four percent iron, more than 30 percent manganese, more than eight percent silicon, and not more than three percent phosphorous. All compositions, forms, and sizes of silicomanganese are included within the scope of this review, including silicomanganese slag, fines, and briquettes. Silicomanganese is used primarily in steel production as a source of both silicon and manganese. This sunset review covers all silicomanganese, regardless of its tariff classification. Most silicomanganese is currently classifiable under subheading 7202.30.0000 of the Harmonized Tariff Schedule of the United States (“HTSUS”). Some silicomanganese may also currently be classifiable under HTSUS subheading 7202.99.5040. Although the HTSUS subheadings are provided for convenience and customs purposes, our written description of the subject merchandise remains dispositive.

Analysis of Comments Received

All issues raised in this case by parties to this sunset review are addressed in the “Issues and Decision Memorandum” (“Decision Memo”) from Jeffrey A. May, Director, Office of Policy, Import Administration, to Troy H. Cribb, Acting Assistant Secretary for Import Administration, dated May 22, 2000, which is hereby adopted by this notice. The issues discussed in the Decision Memo include adequacy, the likelihood of continuation or recurrence of dumping, and the magnitude of the margin likely to prevail were the suspension agreement terminated. Parties can find a complete discussion of all issues raised in this review and the corresponding recommendations in this public memorandum, which is on file in room B-099 of the Commerce Building.

In addition, a complete version of the Decision Memo can be accessed directly on the Web at www.ita.doc.gov/import_admin/records/frn/. The paper copy and electronic version of the Decision Memo are identical in content.

Preliminary Results of Review

The Department preliminarily determines that if the suspended antidumping investigation is terminated, it is likely that dumping will continue or recur at the levels indicated below:

Manufacturer/exporter | Margin (percent)
All Manufacturers/Producers/Exporters | 163.00

An interested party may request a hearing within 30 days of publication of this notice in accordance with 19 CFR 351.310(c). Any hearing, if requested, will be held on July 17, 2000. Interested parties may submit case briefs no later than July 10, 2000, in accordance with 19 CFR 351.309(c)(1)(i). Rebuttal briefs, which must be limited to issues raised in the case briefs, may be filed not later than July 14, 2000. The Department will issue a notice of final results of this sunset review, which will include the results of its analysis of issues raised in any such comments, no later than September 27, 2000.

We are issuing and publishing these results and notice in accordance with sections 751(c), 752, and 777(i)(1) of the Act.

Dated: May 22, 2000.
Troy H. Cribb,
Acting Assistant Secretary for Import Administration.

[FR Doc. 00-13463 Filed 5-26-00; 8:45 am]

BILLING CODE 3510-DS-P